DEPARTMENT OF THE TREASURY

Office of Foreign Assets Control

31 CFR Part 500

Foreign Assets Control Regulations

AGENCY: Office of Foreign Assets Control, Treasury.

ACTION: Final rule.

SUMMARY: The Office of Foreign Assets Control of the U.S. Department of the Treasury is amending the Foreign Assets Control Regulations, 31 CFR part 500, by revising paragraph (b)(5) of § 500.586 to prohibit U.S. persons from registering vessels in the Democratic People's Republic of Korea (“North Korea”), or from otherwise obtaining authorization for a vessel to fly the North Korean flag. This paragraph already prohibits U.S. persons from owning, leasing, operating, or insuring any North Korean-flagged vessel.

DATES: Effective Date: February 2, 2007.

FOR FURTHER INFORMATION CONTACT: Assistant Director for Compliance Outreach & Implementation, tel.: 202/622-2490, Assistant Director for Licensing, tel.: 202/622-2480, Assistant Director for Policy, tel.: 202/622-4855, or Chief Counsel, tel.: 202/622-2410, Office of Foreign Assets Control, Department of the Treasury, Washington, DC 20220 (not toll free numbers).

SUPPLEMENTARY INFORMATION:

Electronic and Facsimile Availability

This document and additional information concerning the Office of Foreign Assets Control (“OFAC”) are available from OFAC's Web site http://www.treas.gov/ofac or via facsimile through a 24-hour fax-on demand service, tel.: (202) 622-0077.

Background

The Foreign Assets Control Regulations (the “FACR”), 31 CFR part 500, which are authorized under the Trading with the Enemy Act, 50 U.S.C. App. 1-44, imposed economic sanctions against the Democratic People's Republic of Korea (“North Korea”) beginning in 1950. Consistent with U.S. foreign policy interests, the Office of Foreign Assets Control (“OFAC”), on June 19, 2000, amended the FACR to add § 500.586, authorizing new transactions in which North Korea or a North Korean national has a property interest, subject to certain limitations set forth in paragraph (b).

Effective May 8, 2006, OFAC further amended the FACR by adding a new limitation on the authorization provided by § 500.586. This limitation, § 500.586(b)(5), prohibits U.S. persons from owning, leasing, operating, or insuring any vessel flagged by North Korea. Based on information that OFAC has received during its implementation of § 500.586(b)(5) and other foreign policy considerations, OFAC is amending § 500.586(b)(5) to expand this prohibition. Effective immediately, U.S. persons are prohibited from registering vessels in North Korea, or from otherwise obtaining authorization for a vessel to fly the North Korean flag.

In addition to the amendment relating to North Korean vessels, OFAC is making a technical amendment to the note to § 500.586 to correct its placement within the section and to make minor revisions to its content.

Public Participation

Because the amendments of the FACR involve a foreign affairs function, the provisions of Executive Order 12866 and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the FACR are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Part 500

Administrative practice and procedure, Banks, Banking, Brokers, Foreign Trade, Investments, Loans, Securities, North Korea.

For the reasons set forth in the preamble, the Office of Foreign Assets Control amends 31 CFR part 500 as follows:

PART 500—FOREIGN ASSETS CONTROL REGULATIONS

1. The authority citation for part 500 continues to read as follows:

Authority: 18 U.S.C. 2332d; 31 U.S.C. 321(b); 50 U.S.C. App. 1-44; Pub. L. 101-410, 104 Stat. 890 (28 U.S.C. 2461 note); E.O. 9193, 7 FR 5205, 3 CFR, 1938-1943 Comp., p. 1174; E.O. 9989, 13 FR 4891, 3 CFR, 1943-1948 Comp., p. 748.

Subpart E—Licenses, Authorizations, and Statements of Licensing Policy

2. Amend § 500.586 by revising paragraph (b)(5) of § 500.586, removing the note to paragraph (b) of § 500.586, and adding a new note to § 500.586 to read as follows:

§ 500.586 Authorization of new transactions concerning certain North Korean property.

* * * * *

(b) * * *

(5)(i) Effective May 8, 2006, United States persons are prohibited from owning, leasing, operating, or insuring any vessel flagged by North Korea.

(ii) Effective February 2, 2007, United States persons are prohibited from registering vessels in North Korea, or from otherwise obtaining authorization for a vessel to fly the North Korean flag.

(iii) For purposes of this section, the term United States person means any United States citizen, permanent resident alien, entity organized under the laws of the United States or any jurisdiction within the United States (including foreign branches), or any person in the United States.

Note to § 500.586: The exportation and reexportation of items may be subject to license application requirements under regulations administered by other federal agencies (see e.g., the Export Administration Regulations administered by the Department of Commerce). It should also be noted that the shipment of strategic goods from a foreign country to North Korea by persons subject to the jurisdiction of the United States remains prohibited by 31 CFR part 505. The application requirements for a specific license relating to such goods are found in 31 CFR 501.801.

Dated: January 9, 2007.
Adam J. Szubin,
Director, Office of Foreign Assets Control.

[FR Doc. E7-1702 Filed 2-1-07; 8:45 am]

BILLING CODE 4811-42-P